DEPARTMENT OF ENERGY

Western Area Power Administration

Interconnection of the Proposed Rail Tie Wind Project, Wyoming (DOE/EIS-0543)

AGENCY: Western Area Power Administration, DOE.

ACTION: Notice of Intent to prepare an Environmental Impact Statement and to conduct scoping meetings; notice of floodplain and wetlands involvement.

SUMMARY: ConnectGen Albany County LLC applied to interconnect their proposed Rail Tie Wind Project (Project) with the Western Area Power Administration's (WAPA) existing Ault-Craig 345-kilovolt (kV) transmission line in Albany County, Wyoming. WAPA will prepare an environmental impact statement (EIS) on the proposal to interconnect the Project in accordance with the National Environmental Policy Act of 1969 (NEPA), U.S. Department of Energy (DOE) NEPA Implementing Procedures, and the Council on Environmental Quality (CEQ) regulations for implementing NEPA. Portions of the proposed Project may affect floodplains and wetlands, so this Notice of Intent (NOI) also serves as a notice of proposed floodplain or wetland action in accordance with DOE floodplain and wetland environmental review requirements.

DATES: The public scoping period starts with the publication of this notice and ends on January 29, 2020. To initiate the public involvement process, informational/public scoping meetings will be held in Laramie, Wyoming, near the Project site. Public notice of the date, time, and place of the meetings will be posted on the Project website at https://www.wapa.gov/transmission/EnvironmentalReviewNEPA/Pages/rail-tie-wind-project.aspx. All known interested parties, agencies, tribes, and the public will be notified of the meetings directly via the Project mailing list, and via paid advertising, news releases, or other appropriate means. WAPA will consider all comments on the scope of the EIS received or postmarked by the end of the scoping period. The public is invited to submit comments on the proposed Project for WAPA's consideration at any time during the EIS process.

ADDRESSES: Oral or written comments may be provided at the public scoping meetings or mailed or emailed to Mark Wieringa, NEPA Document Manager, Headquarters, Western Area Power Administration, P.O. Box 281213, Lakewood, CO 80228-8213, email RailTieWind@wapa.gov, telephone (720) 962-7448.

FOR FURTHER INFORMATION CONTACT: For additional information on the scoping meeting, proposed Project, the EIS process, or to receive a copy of the Draft EIS when it is published, contact Mark Wieringa using the information above. For general information on DOE's NEPA review process, contact Brian Costner, Office of NEPA Policy and Compliance, GC-54, U.S. Department of Energy, 1000 Independence Avenue SW, Washington, DC 20585-0119, email AskNEPA@hq.doe.gov, telephone (202) 586-4600 or (800) 472-2756, facsimile (202) 586-7031.

SUPPLEMENTARY INFORMATION: WAPA is a Federal power marketing administration within the DOE that markets and delivers Federal wholesale electric power (principally hydroelectric power) to municipalities, rural electric cooperatives, public utilities, irrigation districts, Federal and State agencies, and Native American tribes in 15 western and central States. The proposed Project would be located within WAPA's Rocky Mountain Region, which operates in Arizona, Colorado, most of Wyoming, and portions of Kansas, Nebraska, New Mexico, and Utah. ConnectGen applied to interconnect up to 504 megawatts (MW), via two 252-MW applications, with WAPA's existing Ault-Craig 345-kV transmission line in Albany County, Wyoming. The Ault-Craig transmission line passes through the proposed Project area, which is located south of Laramie and north of the Colorado state line, on either side of U.S. Highway 287. The proposed Project would be located on private and State lands; no federally-managed land would be affected. There are no designated cooperating agencies at this time, but cooperating agencies could be identified at a later date.

WAPA will prepare an EIS on the interconnection of the proposed Project in accordance with NEPA (42 U.S.C. 4321 et seq.); DOE NEPA Implementing Procedures (10 CFR part 1021), and the CEQ regulations for implementing NEPA (40 CFR parts 1500-1508).

Purpose and Need for Agency Action

WAPA needs to consider ConnectGen's interconnection request under its Open Access Transmission Service Tariff (Tariff), which provides for open access to its transmission system through an interconnection if there is available capacity in the transmission system. This EIS will address WAPA's Federal action of interconnecting the proposed Project to WAPA's transmission system, constructing an interconnection switchyard on the existing Ault-Craig transmission line, and making any necessary system modifications to accommodate the interconnection of ConnectGen's proposed Project. Preliminary studies indicate that the power system can accommodate the proposed interconnection without negatively affecting system reliability or power deliveries to existing customers. The transmission system may require network and/or transmission system upgrades as determined in the final studies.

WAPA's Proposed Action

Subject to compliance with the provisions of the Tariff and after consideration of the impacts identified in the Final EIS, WAPA will consider approving ConnectGen's interconnection request and constructing a 345-kV interconnection switchyard on the Ault-Craig transmission line. By taking this action, power generated by the proposed Project would use WAPA's transmission system to reach the market. If WAPA's decision is to approve the interconnection request, WAPA would construct, own, operate, and maintain a 345-kV interconnection switchyard located adjacent to the Ault-Craig transmission line. The interconnection switchyard would consist of a line interconnection, switching equipment and breakers, a control house, communications gear, supervisory control and data acquisition (SCADA) capability, and related equipment. The switchyard would be eight to ten acres in size, surfaced with gravel or crushed rock and enclosed by security fencing.

Alternatives

WAPA will evaluate location options for its interconnection switchyard within the proposed Project area along the existing Ault-Craig transmission line. Under the No Action Alternative, WAPA would not approve the interconnection request or construct the interconnection facility.

Applicant's Proposed Project

ConnectGen's proposed Project would consist of up to 84 to 151 wind turbine generators with a generating capability of 3 to 6 MW each, for a combined total generating capacity of up to 504 MW. The wind turbines would be located within an approximately 26,000-acre site in southeast Albany County, Wyoming, roughly centered on the town of Tie Siding and bisected by U.S. Highway 287. The turbines would be located in a varying number of generally north-south oriented strings of varying lengths, with the strings being approximately one-half mile apart. Separation between turbines, between turbine strings, and the number of turbine strings would vary with different turbine sizes. Each turbine would have a maximum height of up to 675 feet to the blade tip, and a permanent footprint including base, transformer, and associated pads of about one-tenth of an acre.

In addition to the turbines, temporary access roads and permanent all-weather access roads to each turbine location would be required. To the extent possible, existing roads and trails would be incorporated into the access road system and upgraded as necessary. It is estimated that approximately 60 miles of new permanent all-weather access roads would be needed for the proposed Project.

Two 345-kV Project substations, one on either side of U.S. Highway 287 would be constructed. The substation sites would be about five acres in size, and each would contain one or two main power transformers, breakers and switches, control buildings, SCADA and metering equipment, a permanent meteorological tower, and other related equipment. The substations would be gravel- or crushed rock-surfaced, and enclosed by security fencing. Approximately four miles of 345-kV single circuit transmission line would connect the two Project substations with WAPA's interconnection switchyard. Up to 105 miles of 34.5-kV collection lines would connect the transformers at each turbine to the Project substations. The collection lines would typically be 34.5 kV, and would likely be a combination of buried electrical cables and overhead lines on poles 30 to 50 feet tall. To the extent practicable, the collection lines would parallel Project access roads to limit environmental disturbance and facilitate maintenance.

The proposed Project would also include eight 105-meter-tall permanent meteorological towers, four on either side of the highway, each located so as to best capture wind and other weather data. The towers would likely be of the self-supported, lattice-mast type, to eliminate the bird collision risk posed by guy wires.

An approximately 7,000-square-foot operations and maintenance (O&M) building would be constructed to support the proposed Project. The O&M building would include water, sanitary, and electrical services, and would house equipment for monitoring turbine operation and performance and a shop area for repair and maintenance. The O&M building would be located within an approximately five-acre security-fenced area, which would provide a secure yard for vehicle parking and spare components.

Several temporary laydown yards of approximately 15 acres each would be sited after biological and cultural resources surveys were completed to avoid sensitive areas. The sites would be temporarily gravel-surfaced and would serve as vehicle parking and staging areas for construction equipment and turbine and collection line components and materials. These sites would be reclaimed after completion of construction. Although mobile concrete mixing batch plants are not proposed at this time, it is possible they could be employed. As with the laydown yards, any batch plant sites would be surveyed before use, and reclaimed after construction was completed.

Although WAPA's Federal action is to consider the interconnection request and the physical interconnection to WAPA's existing transmission system, the EIS will also identify and analyze the environmental impacts of ConnectGen's entire proposed Project. ConnectGen would complete necessary coordination with State and local agencies to permit their proposed Project, while WAPA would be responsible for its interconnection switchyard.

Floodplain or Wetland Involvement

Since the proposed Project may involve action in floodplains or wetlands, this NOI also serves as a notice of proposed floodplain or wetland action. The EIS will include a floodplain/wetland assessment and floodplain/wetland statement of findings following DOE regulations for compliance with floodplain and wetlands environmental review (10 CFR part 1022).

Environmental Issues

The location of the proposed Project is in a sparsely populated portion of southeastern Wyoming. Available overview information indicates this area has a relatively low probability of substantial natural resources conflicts. This information includes the 2012 Draft EIS for the Hermosa West Wind Energy Project (DOE/EIS-0438), which analyzed an area largely included in the proposed Project west of U.S. Highway 287. ConnectGen's siting process for the wind turbine strings and associated facilities will consider sensitive resources, and the proposed Project would be designed to avoid these areas. The EIS will evaluate the level of impact WAPA's proposed action and ConnectGen's proposed Project alternatives would have on environmental resources within the approximately 26,000-acre site, which may lead to modifications in the proposed Project to further avoid or minimize resource impacts. Although no substantive resource conflicts have been identified thus far, the EIS will analyze the potential impacts on potentially affected environmental resources. Wind turbine power generation projects are generally known to have visual and noise effects, and may affect birds and bats.

Public Participation

Interested parties are invited to participate in the scoping process to help define the important resources and issues to be analyzed in depth, and to eliminate from detailed study issues that are not pertinent. The scoping process will involve all interested agencies (Federal, State, county, and local), Native American tribes, public interest groups, businesses, affected landowners, and individual members of the public.

WAPA will consult with potentially affected tribes to jointly evaluate and address the potential Project effects on cultural resources, traditional cultural properties, or other resources important to the tribes. These consultations will be conducted in accordance with Executive Order 13175, Consultation and Coordination with Indian Tribal Governments (65 FR 67249), the President's memorandum of April 29, 1994, Government-to-Government Relations with Native American Tribal Governments (59 FR 22951), DOE-specific guidance on tribal interactions, and applicable natural and cultural resources laws and regulations.

Public informational/scoping meetings will be held as described under DATES and ADDRESSES sections at the beginning of this notice. The meetings will be informal, and attendees will be able to speak directly with WAPA and ConnectGen representatives about the proposed Project. The public is encouraged to provide information and comments on issues it believes WAPA should address in the EIS. Comments may be broad in nature or restricted to specific areas of concern, but should be directly relevant to Project issues, the NEPA process, or expected resource impacts. After gathering comments on the scope of the EIS during the 30-day scoping period, WAPA will address the issues raised in the EIS. Comments on WAPA's proposed action and ConnectGen's proposed Project will be accepted and considered at any time during the EIS process, and may be directed to WAPA as described under the ADDRESSES section.

WAPA's EIS process will include the public scoping meetings; consultation and coordination with appropriate Federal, State, county, and local agencies and tribal governments; involvement with affected landowners; distribution of and public review and comment on the Draft EIS; a public hearing or hearings on the Draft EIS; distribution of a published Final EIS; and publication of WAPA's Record of Decision in the Federal Register.

Dated: December 17, 2019.
Mark A. Gabriel,
Administrator.

[FR Doc. 2019-28222 Filed 12-27-19; 8:45 am]

BILLING CODE 6450-01-P